DEPARTMENT OF TRANSPORTATION

Federal Aviation Administration

14 CFR Part 39

[Docket No. 2000-NM-319-AD; Amendment 39-12268; AD 2001-12-13]

RIN 2120-AA64

Airworthiness Directives; Empresa Brasileira de Aeronautica S.A. (EMBRAER) Model EMB-135 and EMB-145 Series Airplanes

AGENCY: Federal Aviation Administration, DOT.

ACTION: Final rule.

SUMMARY: This amendment adopts a new airworthiness directive (AD), applicable to certain EMBRAER Model EMB-135 and EMB'145 series airplanes, that requires replacement of certain brake control units (BCU) with new units. The actions specified by this AD are intended to prevent uncommanded application of 50 percent braking in one pair of wheels, which could result in the airplane skidding off the runway. This action is intended to address the identified unsafe condition.

DATES: Effective July 23, 2001.

The incorporation by reference of certain publications listed in the regulations is approved by the Director of the Federal Register as of July 23, 2001.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Robert Capezzuto, Aerospace Engineer, Systems and Flight Test Branch, ACE-116A, FAA, Atlanta Aircraft Certification Office, One Crown Center, 1895 Phoenix Boulevard, suite 450, Atlanta, Georgia 30349; telephone (770) 703-6071; fax (770) 703-6097.

SUPPLEMENTARY INFORMATION: A proposal to amend part 39 of the Federal Aviation Regulations (14 CFR part 39) to include an airworthiness directive (AD) that is applicable to certain EMBRAER Model EMB-135 and EMB'145 series airplanes was published in the Federal Register on November 13, 2000 (65 FR 67663). That action proposed to require replacement of certain brake control units (BCU) with new units.

Comments

Interested persons have been afforded an opportunity to participate in the making of this amendment. Due consideration has been given to the single comment received.

Add Service Information

The commenter states that EMBRAER Service Bulletin 145-32-0060, dated May 5, 2000, should be included in the final rule as an additional source of service information for previous accomplishment of the specified actions. EMBRAER Service Bulletin 145-32-0060, Change No. 01, dated June 6, 2000, was listed as the source of service information for accomplishment of the actions specified in the proposed rule. The commenter states that the difference between the original issue and Change No. 01 of the service bulletin is administrative in nature.

The FAA agrees with the commenter that the original issue is essentially the same as Change No. 01 of the service bulletin. We have added a new Note 2 to the final rule which clarifies that previous accomplishment of the actions per the original issue of the service bulletin meets the requirements of this final rule.

Conclusion

After careful review of the available data, including the comment noted above, the FAA has determined that air safety and the public interest require the adoption of the rule with the change described previously. The FAA has determined that this change will neither increase the economic burden on any operator nor increase the scope of the AD.

Cost Impact

The FAA estimates that 165 Model EMB-135 and EMB-145 series airplanes of U.S. registry will be affected by this AD. It will take approximately 5 work hours per airplane (2.5 work hours per BCU) to accomplish the required actions, at an average labor rate of $60 per work hour. Required parts will be provided by a vendor at no charge to the operator. Based on these figures, the cost impact of the AD on U.S. operators is estimated to be $49,500, or $300 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-12-13 Empresa Brasileira de Aeronautica S.A. (EMBRAER): Amendment 39-12268. Docket 2000-NM-319-AD.

Applicability: Model EMB-135 and EMB-145 series airplanes, certificated in any category, as listed in EMBRAER Service Bulletin 145-32-0060, Change No. 01, dated June 6, 2000.

Note 1: This AD applies to each airplane identified in the preceding applicability provision, regardless of whether it has been modified, altered, or repaired in the area accordance with paragraph (c) of this AD. The request should include an assessment of the effect of the modification, alteration, or repair on the unsafe condition addressed by this AD; and, if the unsafe condition has not been eliminated, the request should include specific proposed actions to address it.

Compliance: Required as indicated, unless accomplished previously.

To prevent uncommanded application of 50 percent braking in one pair of wheels, which could result in the airplane skidding off the runway, accomplish the following:

Replacement

(a) Within 2,000 landings after the effective date of this AD: Replace the brake control unit (BCU) having part number (P/N) 42-951-1 or 42-951-2 with a new BCU having P/N 42-951-3 in accordance with EMBRAER Service Bulletin 145-32-0060, Change No. 01, dated June 6, 2000.

Note 2: Replacement of the BCU before the effective date of this AD, per EMBRAER Service Bulletin 145-32-0060, dated May 5, 2000, is considered acceptable for compliance with paragraph (a) of this AD.

Spares

(b) As of the effective date of this AD, no person shall install on any airplane a BCU having P/N 42-951-1 or 42-951-2.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with EMBRAER Service Bulletin 145-32-0060, Change No. 01, dated June 6, 2000, which contains the following list of effective pages:

Page No. | Change level shown on page | Date shown on page
1-4 | 01 | June 6, 2000.
5-10 | Original | May 5, 2000.

This incorporation by reference was approved by the Director of the Federal Register in accordance with 5 U.S.C. 552(a) and 1 CFR part 51. Copies may be obtained from Empresa Brasileira de Aeronautica S.A. (EMBRAER), P.O. Box 343-CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 4: The subject of this AD is addressed in Brazilian airworthiness directive 2000-07-01, dated August 20, 2000.

Effective Date

(f) This amendment becomes effective on July 23, 2001.

Issued in Renton, Washington, on June 8, 2001.
Donald L. Riggin,
Acting Manager, Transport Airplane Directorate, Aircraft Certification Service.

[FR Doc. 01-15090 Filed 6-15-01; 8:45 am]

BILLING CODE 4910-13-P